DEPARTMENT OF TRANSPORTATION

Federal Aviation Administration

14 CFR Part 39

[Docket No. FAA-2021-0020; Project Identifier MCAI-2020-01639-R]

RIN 2120-AA64

Airworthiness Directives; Airbus Helicopters

AGENCY: Federal Aviation Administration (FAA), DOT.

ACTION: Notice of proposed rulemaking (NPRM).

SUMMARY: The FAA proposes to supersede Airworthiness Directive (AD) 2019-03-12, which applies to certain Airbus Helicopters Model EC225LP helicopters. AD 2019-03-12 requires repetitively inspecting, cleaning, and lubricating each life raft inflation cylinder percussion system bellcrank (bellcrank). Since the FAA issued AD 2019-03-12, the FAA determined that any affected bellcrank must be replaced with a serviceable bellcrank, which would terminate the repetitive actions. This proposed AD would continue to require the actions specified in AD 2019-03-12, and would require replacing any affected bellcrank with a serviceable bellcrank. The FAA is proposing this AD to address the unsafe condition on these products.

DATES: The FAA must receive comments on this proposed AD by April 12, 2021.

ADDRESSES: You may send comments, using the procedures found in 14 CFR 11.43 and 11.45, by any of the following methods:

• Federal eRulemaking Portal: Go to https://www.regulations.gov. Follow the instructions for submitting comments.

• Fax: 202-493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

For service information identified in this proposed rule, contact Airbus Helicopters, 2701 N Forum Drive, Grand Prairie, TX 75052; telephone 972-641-0000 or 800-232-0323; fax 972-641-3775; or at https://www.airbus.com/helicopters/services/technical-support.html. You may view this service information at the FAA, Office of the Regional Counsel, Southwest Region, 10101 Hillwood Pkwy., Room 6N 321, Fort Worth, TX 76177. For information on the availability of this material at the FAA, call 817-222-5110.

Examining the AD Docket

You may examine the AD docket on the internet at https://www.regulations.gov by searching for and locating Docket No. FAA-2021-0020; or in person at Docket Operations between 9 a.m. and 5 p.m., Monday through Friday, except Federal holidays. The AD docket contains this NPRM, any comments received, and other information. The street address for Docket Operations is listed above. Comments will be available in the AD docket shortly after receipt.

FOR FURTHER INFORMATION CONTACT: Blaine Williams, Aviation Safety Engineer, Los Angeles ACO Branch, 3960 Paramount Boulevard, Lakewood, CA 90712-4137; telephone 562-627-5371; email blaine.willaims@faa.gov.

SUPPLEMENTARY INFORMATION:

Comments Invited

The FAA invites you to send any written relevant data, views, or arguments about this proposal. Send your comments to an address listed under ADDRESSES. Include “Docket No. FAA-2021-0020; Project Identifier MCAI-2020-01639-R” at the beginning of your comments. The most helpful comments reference a specific portion of the proposal, explain the reason for any recommended change, and include supporting data. The FAA will consider all comments received by the closing date and may amend this proposal because of those comments.

Except for Confidential Business Information (CBI) as described in the following paragraph, and other information as described in 14 CFR 11.35, the FAA will post all comments received, without change, to https://www.regulations.gov, including any personal information you provide. The agency will also post a report summarizing each substantive verbal contact received about this proposal.

Confidential Business Information

CBI is commercial or financial information that is both customarily and actually treated as private by its owner. Under the Freedom of Information Act (FOIA) (5 U.S.C. 552), CBI is exempt from public disclosure. If your comments responsive to this NPRM contain commercial or financial information that is customarily treated as private, that you actually treat as private, and that is relevant or responsive to this NPRM, it is important that you clearly designate the submitted comments as CBI. Please mark each page of your submission containing CBI as “PROPIN.” The FAA will treat such marked submissions as confidential under the FOIA, and they will not be placed in the public docket of this NPRM. Submissions containing CBI should be sent to Blaine Williams Aviation Safety Engineer, Los Angeles ACO Branch, 3960 Paramount Boulevard, Lakewood, CA 90712-4137; telephone 562-627-5371; email blaine.willaims@faa.gov. Any commentary that the FAA receives that is not specifically designated as CBI will be placed in the public docket for this rulemaking.

Discussion

The FAA issued AD 2019-03-12, Amendment 39-19564 (84 FR 8250, March 7, 2019) (AD 2019-03-12), which applies to certain Airbus Helicopters Model EC225LP helicopters. AD 2019-03-12 requires repetitively inspecting, cleaning, and lubricating each bellcrank. The FAA issued AD 2019-03-12 to address jammed bellcranks in the life raft jettison inflation cylinder percussion system. This condition could result in failure of a life raft to release in an emergency and subsequent injury to occupants.

Actions Since AD 2019-03-12 Was Issued

Since the FAA issued AD 2019-03-12, the FAA determined that the affected bellcranks must be replaced with serviceable bellcranks, which would terminate the need for the repetitive actions.

The EASA, which is the Technical Agent for the Member States of the European Union, has issued EASA AD 2019-0287, dated November 27, 2019 (EASA AD 2019-0287) (also referred to as the Mandatory Continuing Airworthiness Information, or the MCAI), to correct an unsafe condition for certain Airbus Helicopters Model EC225LP helicopters. EASA AD 2019-0287 supersedes EASA AD 2019-0102, dated May 9, 2019. EASA AD 2019-0102, dated May 9, 2019, superseded EASA AD 2016-0200, dated October 11, 2016, which corresponds to FAA AD 2019-03-12.

This proposed AD was prompted by reports of jammed bellcranks in the life raft inflation cylinder percussion system. The FAA is proposing this AD to address jammed bellcranks in the life raft jettison inflation cylinder percussion system. This condition could result in failure of a life raft to release in an emergency and subsequent injury to occupants. See the MCAI for additional background information.

Related Service Information Under 1 CFR Part 51

Airbus Helicopters has issued Alert Service Bulletin EC225-25A211, Revision 1, dated October 23, 2019. This service information describes procedures for replacing any affected life raft release bellcrank with a serviceable bellcrank. This service information is reasonably available because the interested parties have access to it through their normal course of business or by the means identified in the ADDRESSES section.

Other Related Service Information

Airbus Helicopters has also issued Emergency Alert Service Bulletin No. 05A050, Revision 0, dated July 22, 2016; and Emergency Alert Service Bulletin No. 05A050, Revision 1, dated April 3, 2019. This service information describes procedures for cleaning and lubricating each bellcrank and pivot link of the life raft inflation cylinder percussion system and removing any corrosion.

FAA's Determination and Requirements of This Proposed AD

This product has been approved by the aviation authority of another country, and is approved for operation in the United States. Pursuant to the FAA's bilateral agreement with the State of Design Authority, the FAA has been notified of the unsafe condition described in the MCAI and service information referenced above. The FAA is proposing this AD after evaluating all known relevant information and determining that an unsafe condition is likely to exist or develop on other products of the same type design.

Proposed AD Requirements

This proposed AD would retain all requirements of AD 2019-03-12. This proposed AD would also require accomplishing the actions specified in the service information described previously, except as discussed under “Differences Between this Proposed AD and the MCAI or Service Information.”

Differences Between This Proposed AD and the MCAI or Service Information

EASA AD 2019-0287 requires replacing each affected bellcrank with a serviceable part within 6 months after the effective date of that AD. This proposed AD would require replacing each affected bellcrank with a serviceable part within 6 months after the effective date of this AD, or before the next operation over water, whichever occurs first.

Costs of Compliance

The FAA estimates that this proposed AD affects 28 helicopters of U.S. registry. The FAA estimates the following costs to comply with this proposed AD:

Estimated Costs for Required Actions
Action | Labor cost | Parts cost | Cost per product | Cost on U.S. operators
Retained actions from AD 2019-03-12 | 16 work-hours × $85 per hour = $1,360 | Minimal | $1,360 | $38,080
New proposed actions | 4 work-hours × $85 per hour = $340 | $1,646 | 1,986 | 55,608

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive (AD) 2019-03-12, Amendment 39-19564 (84 FR 8250, March 7, 2019); and

b. Adding the following new AD:

Airbus Helicopters: Docket No. FAA-2021-0020; Project Identifier MCAI-2020-01639-R.

(a) Comments Due Date

The FAA must receive comments by April 12, 2021.

(b) Affected Airworthiness Directives (ADs)

This AD removes AD 2019-03-12, Amendment 39-19564 (84 FR 8250, March 27, 2019) (AD 2019-03-12).

(c) Applicability

This AD applies to Airbus Helicopters Model EC225LP helicopters, all manufacturer serial numbers, certificated in any category, equipped with emergency life rafts installed in the multi-purpose sponsons.

(d) Subject

Joint Aircraft System Component (JASC) Code 2564, Life Raft.

(e) Reason

This AD was prompted by reports of jammed bellcranks in the life raft inflation cylinder percussion system. The FAA is issuing this AD to address jammed bellcranks in the life raft jettison inflation cylinder percussion system. This condition could result in failure of a life raft to release in an emergency and subsequent injury to occupants.

(f) Compliance

Comply with this AD within the compliance times specified, unless already done.

(g) Definitions

For the purposes of this AD, the definitions specified in paragraphs (g)(1) through (4) of this AD apply.

(1) Group 1: Helicopters that have an affected part installed.

(2) Group 2: Helicopters that do not have an affected part installed. A helicopter that embodies Airbus Helicopters Modification 07 28457 in production is a Group 2 helicopter, provided the helicopter remains in that configuration.

(3) Affected part: Life raft release bell cranks part number (P/N) 332A41-4396-20 (left-hand (LH) side) and P/N 332A41-4396-21 (right-hand (RH) side).

(4) Serviceable part: Life raft release bell cranks P/N 332A41-4396-22 (LH) and P/N 332A41-4396-23 (RH).

(h) Retained Repetitive Actions, With Specified Helicopter Group and New Note

This paragraph restates the requirements of paragraph (e) of AD 2019-03-12, with a specified helicopter group and new Note 1. For Group 1: Before further flight, and thereafter at intervals not to exceed 6 months:

(1) Clean each bellcrank and pivot link and inspect each bellcrank hole for corrosion. If there is any corrosion in a bellcrank hole:

(i) Remove the corrosion without exceeding a maximum depth of 0.1 millimeter (0.004 inch).

(ii) Clean each pivot link using 400-grain abrasive paper.

(iii) Apply corrosion protectant (Alodine 1200 or equivalent) to each bellcrank hole.

(2) Lubricate each bellcrank hole with grease before assembling the bellcrank.

Note 1 to paragraph (h): Airbus Helicopters Emergency Alert Service Bulletin No. 05A050, Revision 0, dated July 22, 2016; and Airbus Helicopters Emergency Alert Service Bulletin No. 05A050, Revision 1, dated April 3, 2019; describe procedures for cleaning and lubricating each bellcrank and pivot link of the life raft inflation cylinder percussion system and removing any corrosion.

(i) New Requirement of This AD: Bellcrank Replacement

For Group 1: Within 6 months after the effective date of this AD, or before the next operation over water, whichever occurs first, replace each affected bellcrank with a serviceable part, as defined in paragraph (g)(4) of this AD, in accordance with Paragraph 3.B.2. of the Accomplishment Instructions of Airbus Helicopters Alert Service Bulletin EC225-25A211, Revision 1, dated October 23, 2019; except where the service information specifies to remove and scrap certain parts, this AD requires removing those parts from service instead.

(j) Terminating Action for Repetitive Actions Required by Paragraph (h) of This AD

Accomplishment of the bellcrank replacement required by paragraph (i) of this AD is terminating action for the repetitive actions required by paragraph (h) of this AD for that helicopter only.

(k) Parts Installation Limitation

(1) For Group 1: After the replacement required by paragraph (i) of this AD is done, only a serviceable part, as defined in paragraph (g)(4) of this AD, is allowed to be installed on that helicopter.

(2) For Group 2: As of the effective date of this AD, only a serviceable part, as defined in paragraph (g)(4) of this AD, is allowed to be installed on any helicopter.

(l) Special Flight Permit

Special flight permits, as described in 14 CFR 21.197 and 21.199, are not allowed.

(m) Alternative Methods of Compliance (AMOCs)

(1) The Manager, Strategic Policy Rotorcraft Section, FAA, has the authority to approve AMOCs for this AD, if requested using the procedures found in 14 CFR 39.19. In accordance with 14 CFR 39.19, send your request to your principal inspector or local Flight Standards District Office, as appropriate. If sending information directly to the manager of the Strategic Policy Rotorcraft Section, send it to: Manager, Strategic Policy Rotorcraft Section, FAA, 10101 Hillwood Pkwy., Fort Worth, TX 76177; telephone 817-222-5110. Information may be emailed to: 9-ASW-FTW-AMOC-Requests@faa.gov.

(2) Before using any approved AMOC, notify your appropriate principal inspector, or lacking a principal inspector, the manager of the local flight standards district office/certificate holding district office.

(n) Related Information

(1) For more information about this AD, contact Blaine Williams, Aviation Safety Engineer, Los Angeles ACO Branch, 3960 Paramount Boulevard, Lakewood, CA 90712-4137; telephone 562-627-5371; email blaine.willaims@faa.gov.

(2) For service information identified in this AD, contact Airbus Helicopters, 2701 N Forum Drive, Grand Prairie, TX 75052; telephone 972-641-0000 or 800-232-0323; fax 972-641-3775; or at https://www.airbus.com/helicopters/services/technical-support.html. You may view this service information at the FAA, Office of the Regional Counsel, Southwest Region, 10101 Hillwood Pkwy., Room 6N-321, Fort Worth, TX 76177. For information on the availability of this material at the FAA, call 817-222-5110.

Issued on January 28, 2021.
Lance T. Gant,
Director, Compliance & Airworthiness Division, Aircraft Certification Service.

[FR Doc. 2021-03666 Filed 2-25-21; 8:45 am]

BILLING CODE 4910-13-P